DEPARTMENT OF THE INTERIOR

Bureau of Land Management

[LLUTC00000.L51010000.ER0000.LVRWJ09J4050; UTU-83067]

Notice of Intent To Prepare an Environmental Impact Statement for the Sigurd-Red Butte Transmission Line Project (Project) in Utah

AGENCY: Bureau of Land Management, Interior.

ACTION: Notice of intent.

SUMMARY: In compliance with the National Environmental Policy Act (NEPA) of 1969, as amended, and the Federal Land Policy and Management Act of 1976, as amended, the Bureau of Land Management (BLM) Cedar City Field Office, Cedar City, Utah, intends to prepare an Environmental Impact Statement (EIS) for a right-of-way (ROW) application for the Sigurd-Red Butte 345 kilovolt (kV) Transmission Line Project and by this notice is announcing the beginning of the scoping process to solicit public comments and identify issues.

DATES: This notice initiates the public scoping process for the EIS. Comments on issues may be submitted in writing until February 19, 2010. The date(s) and location(s) of any scoping meetings will be announced at least 15 days in advance through local media, newspapers, and the BLM Web site at: http://www.blm.gov/ut/st/en/fo/cedar_city/planning.html. In order to be considered in the Draft EIS, all comments must be received prior to the close of the scoping period or 15 days after the last public meeting, whichever is later. The BLM will provide additional opportunities for public participation upon publication of the Draft EIS.

ADDRESSES: You may submit comments related to the Sigurd-Red Butte 345 Transmission Line Project by any of the following methods:

• Web site: http://www.blm.gov/ut/st/en/fo/cedar_city/planning.html.

• Mail: Bureau of Land Management, Cedar City Field Office, 176 East D.L. Sargent Drive, Cedar City, Utah 84721, Attention: Lucas Lucero.

• E-mail: utsrbproj@blm.gov.

Documents pertinent to the right-of-way (ROW) application for the transmission line project may be examined at:

• U.S. Forest Service, Dixie Office, 1789 North Wedgewood Lane, Cedar City, Utah 84721.

• U.S. Forest Service, Fishlake Office, 115 East 900 North, Richfield, Utah 84701.

• BLM, Cedar City Field Office, 176 D.L. Sargent Drive, Cedar City, Utah 84721.

FOR FURTHER INFORMATION CONTACT: For further information and/or to have your name added to our mailing list, contact Lucas Lucero, BLM Project Manager; telephone (702) 515-5059; e-mail Lucas_Lucero@blm.gov; address BLM, Cedar City Field Office, 176 East D.L. Sargent Drive, Cedar City, Utah 84721.

SUPPLEMENTARY INFORMATION: PacifiCorp, doing business as Rocky Mountain Power Company, has filed a ROW application seeking authorization to construct, operate, maintain, and decommission a 345 kV single-circuit overhead electric transmission line on Federal lands. The project would provide an additional 600 megawatts of reliable electrical capacity by 2014 to respond to anticipated load growth in Southwestern Utah. The proposed project begins at the existing Sigurd Substation near Richfield, Utah, and terminates at the existing Red Butte Substation near the town of Central, Utah. The project area spans approximately 160 miles. Rocky Mountain Power Company has identified multiple alternative routes between the two substations. Alternative routes identified so far would affect Federal, State, and private lands. The requested ROW width on Federal lands is 150 feet. Rocky Mountain Power Company proposes to predominantly use steel H-frame towers approximately 80 to 130 feet in height with average spans between towers of 1,000 to 1,200 feet. Permanent access roads approximately 14 feet wide would be needed. Temporary work space would be needed during construction for material storage, conductor tensioning sites, and to accommodate vehicles and equipment. Alternative routes currently identified would use portions of utility corridors on Federal lands and parallel portions of existing overhead and underground utilities and roadways.

The BLM is the designated lead Federal agency for preparation of the EIS. Other agencies with legal jurisdiction or special expertise have been invited to participate as cooperating agencies in preparation of the EIS. Currently, the U.S. Forest Service (Dixie and Fishlake National Forests), State of Utah, Millard County, Sevier County, Beaver County, Utah Division of Wildlife Resources, City of St. George, and City of Enterprise have agreed to participate as cooperating agencies.

The purpose of the public scoping process is to determine relevant issues that will influence the scope of the environmental analysis, including alternatives, and guide the process for developing the EIS. At present, the BLM has identified the following preliminary issues: public health and safety, noise, visual intrusions, migratory bird habitat, crucial deer and elk habitat, Utah Prairie Dog habitat, socioeconomic impacts, cultural and historic sites, National Scenic and Historic Trails, and nearby inventoried roadless areas on National Forests.

The BLM will use and coordinate the NEPA commenting process to satisfy the public involvement process for Section 106 of the National Historic Preservation Act (16 U.S.C. 470f) as provided for in 36 CFR 800.2(d)(3). Native American Tribal consultations will be conducted and Tribal concerns will be given due consideration, including impacts on Indian trust assets. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Selma Sierra,
State Director.

[FR Doc. E9-31239 Filed 1-4-10; 8:45 am]

BILLING CODE 4310-DQ-P